ELECTION ASSISTANCE COMMISSION

Sunshine Act; Notice

AGENCY: Election Assistance Commission.

ACTION: Notice of public meeting for the Technical Guidelines Development Committee.

DATE and time: Wednesday, March 29, 2006, 8:30 a.m. to 5:30 p.m.

place: National Institute of Standards and Technology, 100 Bureau Drive, Building 101, Red Auditorium, Gaithersburg, Maryland 20899-8900.

status: This meeting will be open to the public. There is no fee to attend, but, due to security requirements, advance registration is required. Registration information will be available at http://www.vote.nist.gov by March 6, 2006.

SUMMARY: The Technical Guidelines Development Committee (the “Development Committee”) has scheduled a plenary meeting for March 29, 2006. The Committee was established to act in the public interest to assist the Executive Director of the U.S. Election Assistance Commission (EAC) in the development of voluntary voting system guidelines. The Development Committee held previous meetings on July 9, 2004; January 18 and 19, 2005; March 9, 2005; April 20 and 21, 2005; and September 29, 2005. The purpose of the sixth meeting of the Development Committee will be to review and approve draft documents that will form the bases for recommendations for future voluntary voting system guidelines to the EAC. The draft documents respond to tasks defined in resolutions passed at previous Technical Guideline Development Committee meetings.

SUPPLEMENTARY INFORMATION: The Technical Guidelines Development Committee (the “Development Committee”) has scheduled a plenary meeting for March 29, 2006. The Committee was established pursuant to 42 U.S.C. 15361, to act in the public interest to assist the Executive Director of the Election Assistance Commission in the development of the voluntary voting system guidelines. The Technical Guidelines Development Committee held their first plenary meeting on July 9, 2004. At this meeting, the Development Committee agreed to a resolution forming three working groups: (1) Human Factors & Privacy; (2) Security & Transparency; and (3) Core Requirements & Testing to gather information and public input on relevant issues. The information gathered by the working groups was analyzed at the second meeting of the Development Committee January 18 and 19, 2005. Resolutions were debated and adopted by the TGDC at the January plenary session. The resolutions defined technical work tasks for NIST that will assist the TGDC in developing recommendations for voluntary voting system guidelines. At the March 9, 2005 meeting, NIST scientists presented preliminary reports on technical work tasks defined in resolutions adopted at the January plenary meeting and adopted one additional resolution. The Development Committee approved initial recommendations for voluntary voting system guidelines at the April 20th and 21st, 2005 meeting. The Development Committee began consideration of future recommendations for voluntary voting system guidelines at the September 29, 2005 meeting. At the March 29th, 2006 meeting, the Development Committee will review and approve draft technical guidance documents that will form the bases for recommendations for future voluntary voting system guidelines.

FOR FURTHER INFORMATION CONTACT: Allan Eustis (301) 975-5099. If a member of the public would like to submit written comments concerning the Committee's affairs at any time before or after the meeting, written comments should be addressed to the contact person indicated above, or to voting@nist.gov.

Thomas R. Wilkey,
Executive Director, U.S. Election Assistance Commission.

[FR Doc. 06-2340 Filed 3-7-06; 2:24 pm]

BILLING CODE 6820-KF-M